NATIONAL AERONAUTICS AND SPACE ADMINISTRATION

14 CFR Part 1260

NASA Grant and Cooperative Agreement Handbook—Unsolicited Proposals

AGENCY: National Aeronautics and Space Administration.

ACTION: Final rule.

SUMMARY: This final rule amends the NASA Grant and Cooperative Agreement Handbook to consolidate existing coverage regarding unsolicited proposals awarded as grants or cooperative agreements under a single new section.

EFFECTIVE DATE: June 13, 2003.

FOR FURTHER INFORMATION CONTACT: Paul Brundage, NASA Headquarters, Code HC, Washington, DC, (202) 358-0481, e-mail: paul.brundage@hq.nasa.gov.

SUPPLEMENTARY INFORMATION:

A. Background

Coverage regarding unsolicited proposals awarded as grants or cooperative agreements is set out in different sections of NASA's Grant and Cooperative Agreement Handbook. This change consolidates and clarifies that coverage in a new § 1260.17.

B. Regulatory Flexibility Act

NASA certifies that this final rule will not have a significant economic impact on a substantial number of small entities within the meaning of the Regulatory Flexibility Act, 5 U.S.C. 601 et seq., because the changes merely consolidates existing guidance.

C. Paperwork Reduction Act

The Paperwork Reduction Act does not apply because this final rule does not impose any new recordkeeping or information collection requirements, or collection of information from offerors, contractors, or members of the public that require the approval of the Office of Management and Budget under 44 U.S.C. 3501, et. seq.

List of Subjects in 14 CFR Part 1260

Grant programs—science and technology.

Tom Luedtke,
Assistant Administrator for Procurement.

Accordingly, 14 CFR part 1260 is amended as follows:

1. The authority citation for 14 CFR part 1260 continues to read as follows:

Authority: 42 U.S.C. 2473(c)(1), Pub. L. 97-258, 96 Stat. 1003 (31 U.S.C. 6301, et seq.,) and OMB Circular A-110.

PART 1260—GRANTS AND COOPERATIVE AGREEMENT

1. In section 1260.10, revise paragraph (a)(2) to read as follows:

§ 1260.10 Proposals.

(a) * * *

(2) An unsolicited proposal. (See § 1260.17.)

2. In section 1260.11, revise paragraph (d) to read as follows:

§ 1260.11 Evaluation and selection.

(d) For unsolicited proposals, see § 1260.17.

3. Add section 1260.17 to read as follows:

§ 1260.17 Evaluation and selection of unsolicited proposals.

(a) Unsolicited proposals are for new and innovative ideas. Federal Acquisition Regulation (FAR) 48 CFR Subpart 15.6 and NASA FAR Supplement (NFS) 48 CFR Subpart 1815.6 set out NASA's procedures for their submission and evaluation. Consult “Guidance for the Preparation and Submission of Unsolicited Proposals” (see http://ec.msfc.nasa.gov/hq/library/unSol-Prop.html) for additional information. NASA recommends contact with NASA technical personnel before submission of an unsolicited proposal to determine if preparation is warranted. These discussions should be limited to understanding NASA's need for research and do not jeopardize the unsolicited status of any subsequently submitted proposal.

(b) NASA will evaluate unsolicited proposals the same whether awarded as grants or contracts. However, the requirement to synopsize set out in FAR Part 5 does not apply to grants.

(c) All unsolicited proposals recommended for acceptance as grants shall be supported by a Justification for Acceptance of an Unsolicited Proposal (JAUP) prepared by the cognizant technical office. The JAUP shall be submitted for the approval of the grant officer after review and concurrence at a level above the technical officer. However, review and concurrence are not required for technical officers at a division chief or higher level. The grant officer's signature awarding the grant constitutes approval of the JAUP.

(d) If an unsolicited proposal will not be funded, NASA will notify in writing the organization or person that submitted it. The method of notification is at the discretion of the grant officer. Proposals will be returned only when requested.

(e) Because unsolicited proposals are awarded without competition, written justifications for equipment and travel shall be submitted by the technical office to the grant officer when more than half of the proposed budget is for equipment, travel, and their associated indirect costs. The grant officer's signature awarding the grant constitutes approval of the justification.

[FR Doc. 03-14935 Filed 6-12-03; 8:45 am]

BILLING CODE 7510-01-P